DEPARTMENT OF THE INTERIOR

National Park Service

Notice of Inventory Completion: U.S. Department of the Interior, Bureau of Indian Affairs, Washington, DC and U.S. Department of the Interior, National Park Service, Hovenweep National Monument, Blanding, UT

AGENCY: National Park Service, Interior.

ACTION: Notice.

Notice is here given in accordance with the Native American Graves Protection and Repatriation Act (NAGPRA), 25 U.S.C. 3003, of the completion of an inventory of human remains and associated funerary objects in the control of the U.S. Department of the Interior, Bureau of Indian Affairs, Washington, DC, and the possession of the U.S. Department of the Interior, National Park Service, Hovenweep National Monument, Blanding, UT. The human remains and associated funerary objects were removed from the vicinity of the Aneth Trading Post site in San Juan County, UT.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by Hovenweep National Monument professional staff and the Bureau of Indian Affairs in consultation with representatives of the Hopi Tribe of Arizona; Navajo Nation, Arizona, New Mexico & Utah; Ohkay Owingeh, New Mexico (formerly the Pueblo of San Juan); Pueblo of Acoma, New Mexico; Pueblo of Jemez, New Mexico; Pueblo of Laguna, New Mexico; Pueblo of Nambe, New Mexico; Pueblo of San Ildefonso, New Mexico; Pueblo of Santa Ana, New Mexico; Pueblo of Santa Clara, New Mexico; Pueblo of Tesuque, New Mexico; Pueblo of Zia, New Mexico; Southern Ute Indian Tribe of the Southern Ute Reservation, Colorado; Ute Indian Tribe of the Uintah & Ouray Reservation, Utah; and Zuni Tribe of the Zuni Reservation, New Mexico. The Jicarilla Apache Nation, New Mexico; Pueblo of Cochiti, New Mexico; Pueblo of Isleta, New Mexico; Pueblo of Picuris, New Mexico; Pueblo of Pojoaque, New Mexico; Pueblo of San Felipe, New Mexico; Pueblo of Sandia, New Mexico; Pueblo of Santo Domingo, New Mexico; Pueblo of Taos, New Mexico; Ute Mountain Tribe of the Ute Mountain Reservation, Colorado, New Mexico & Utah; and Ysleta del Sur Pueblo of Texas were contacted for consultation purposes but did not attend the consultation meetings.

In 1976, human remains representing a minimum of one individual were removed from the vicinity of the Aneth Trading Post site on the reservation of the Navajo Nation, Arizona, New Mexico & Utah in San Juan County, UT, possibly by San Jose State University. The fragmentary state of the remains likely resulted from grading, construction, and road building activities that adversely affected the site. The Aneth Trading Post site dates from the Pueblo I (A.D. 700-900) through the Pueblo III (A.D. 1150-1300) periods. No known individual was identified. The four associated funerary objects are one corrugated sherd and three unidentified animal bone fragments.

The Bureau of Indian Affairs and Hovenweep National Monument have determined that, due to a lack of contextual information, there is not sufficient evidence to support a precise cultural affiliation determination for the human remains and associated funerary objects.

Officials of the Bureau of Indian Affairs and Hovenweep National Monument have determined that, pursuant to 25 U.S.C. 3001 (9-10), the human remains described above represent the physical remains of one individual of Native American ancestry. Officials of the Bureau of Indian Affairs and Hovenweep National Monument also have determined that, pursuant to 25 U.S.C. 3001 (3)(A), the four objects described above are reasonably believed to have been placed with or near individual human remains at the time of death or later as part of the death rite or ceremony. Lastly, officials of the Bureau of Indian Affairs and Hovenweep National Monument have determined that, pursuant to 25 U.S.C. 3001 (2), a relationship of shared group identity cannot reasonably be traced between the Native American human remains and associated funerary objects and any present-day Indian tribe.

The Native American Graves Protection and Repatriation Review Committee (Review Committee) is responsible for recommending specific actions for disposition of culturally unidentifiable human remains. In February 2009, the Bureau of Indian Affairs and Hovenweep National Monument requested that the Review Committee recommend disposition of the culturally unidentifiable human remains to the Hopi Tribe of Arizona; Pueblo of Acoma, New Mexico; Pueblo of Zia, New Mexico; and Zuni Tribe of the Zuni Reservation, New Mexico based on geographic proximity. The Navajo Nation, Arizona, New Mexico & Utah provided a letter of support for the “culturally unidentifiable” determination by the Bureau of Indian Affairs and Hovenweep National Monument and the disposition to the four Indian tribes listed above due to the unique circumstances of the site. The Review Committee considered the proposal at its May 23-24, 2009, meeting and recommended disposition of the human remains to the Hopi Tribe of Arizona; Pueblo of Acoma, New Mexico; Pueblo of Zia, New Mexico; and Zuni Tribe of the Zuni Reservation, New Mexico. The Bureau of Indian Affairs intends to convey the associated funerary objects to the tribes pursuant to 16 U.S.C. 18f-2.

A September 16, 2009, letter from the Designated Federal Officer, writing on behalf of the Secretary of the Interior, transmitted the authorization for the Bureau of Indian Affairs and Hovenweep National Monument to effect disposition of the physical remains of the culturally unidentifiable individual to the four Indian tribes listed above contingent on the publication of a Notice of Inventory Completion in the Federal Register. This notice fulfills that requirement.

Representatives of any other Indian tribe that believes itself to be culturally affiliated with the human remains and associated funerary objects should contact Coralee S. Hays, superintendent, Hovenweep National Monument, McElmo Route, Cortez, CO 81321, telephone (970) 562-4282, before April 26, 2010. Disposition of the human remains to the Hopi Tribe of Arizona; Pueblo of Acoma, New Mexico; Pueblo of Zia, New Mexico; and Zuni Tribe of the Zuni Reservation, New Mexico may proceed after that date if no additional claimants come forward.

The Bureau of Indian Affairs and Hovenweep National Monument are responsible for notifying the Hopi Tribe of Arizona; Jicarilla Apache Nation, New Mexico; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Tribe of the Ute Mountain Reservation, Colorado, New Mexico & Utah; Ysleta del Sur Pueblo of Texas; and Zuni Tribe of the Zuni Reservation, New Mexico that this notice has been published.

Dated: January 26, 2010
Sherry Hutt,
Manager, National NAGPRA Program.

[FR Doc. 2010-6566 Filed 3-24-10; 8:45 am]

BILLING CODE 4312-50-S